DEPARTMENT OF HOUSING AND URBAN DEVELOPMENT

[Docket No. FR-5321-C-04]

Notice of Availability: Notice of Funding Availability (NOFA) for Fiscal Year 2009 Neighborhood Stabilization Program 2 (NSP2) Under the American Recovery and Reinvestment Act of 2009; Correction

AGENCY: Office of the Assistant Secretary for Community Planning and Development, HUD.

ACTION: Notice.

SUMMARY: On May 4, 2009, HUD posted its NSP2 NOFA at http://www.hud.gov/nsp and announced the availability of the NOFA on May 7, 2009 (74 FR 21377). The NSP2 NOFA announced the availability of approximately $1.93 billion available in competitive grants authorized under the American Recovery and Reinvestment Act of 2009 (Pub. L. 111-5, approved February 17, 2009). HUD corrected the NSP2 NOFA by Notices posted on the HUD Web site on June 11, 2009 and November 9, 2009, and announced by Federal Register publications published on June 17, 2009 (74 FR 28715) and November 16, 2009 (74 FR 58973), respectively. Today's Federal Register publication announces that HUD has posted a notice making further corrections to the NSP2 NOFA. Specifically, the Notice corrects the NSP2 NOFA to permit HUD to specify the deadline date for submission of consortium funding agreements in the transmittal letter for the NSP2 grant agreement, which allows the submission deadline to occur after obligation of grant funds.

This notice only affects applications for funding that have already been submitted to HUD by consortium applicants. HUD notes that the deadline for applications was July 17, 2009, and, as a result, will not accept new applications for funding. The notice correcting the NSP2 NOFA is available on the HUD Web site at http://www.hud.gov/recovery.

FOR FURTHER INFORMATION CONTACT: Stanley Gimont, Director, Office of Block Grant Assistance, Department of Housing and Urban Development, Room 7286, 451 Seventh Street, SW., Washington, DC 20410, telephone number (202) 708-3587. Persons with hearing or speech impairments may access this number via TTY by calling the Federal Information Relay Service at (800) 877-8339. FAX inquiries may be sent to Mr. Gimont at (202) 401-2044. (Except for the “800” number, these telephone numbers are not toll-free.)

Dated: January 21, 2010.
Mercedes M. Márquez,
Assistant Secretary for Community Planning and Development.

[FR Doc. 2010-1598 Filed 1-26-10; 8:45 am]

BILLING CODE 4210-67-P